DEPARTMENT OF THE INTERIOR

National Park Service

[NPS-WASO-NAGPRA-NPS0037237; PPWOCRADN0-PCU00RP14.R50000]

Notice of Inventory Completion Amendment: University of California, Riverside, Riverside, CA

AGENCY: National Park Service, Interior.

ACTION: Notice; amendment.

SUMMARY: In accordance with the Native American Graves Protection and Repatriation Act (NAGPRA), the University of California, Riverside has amended a Notice of Inventory Completion published in the Federal Register on March 25, 2004. This notice amends the number of associated funerary objects in a collection removed from Riverside County, CA.

DATES: Repatriation of the human remains and associated funerary objects in this notice may occur on or after February 15, 2024.

ADDRESSES: Megan Murphy, University of California, Riverside, 900 University Avenue, Riverside, CA 92517-5900, telephone (951) 827-6349, email megan.murphy@ucr.edu.

SUPPLEMENTARY INFORMATION: This notice is published as part of the National Park Service's administrative responsibilities under NAGPRA. The determinations in this notice are the sole responsibility of the University of California, Riverside. The National Park Service is not responsible for the determinations in this notice. Additional information on the amendments and determinations in this notice, including the results of consultation, can be found in the inventory or related records held by the University of California, Riverside.

Amendment

This notice amends the determinations published in a Notice of Inventory Completion in the Federal Register (69 FR 15379-15380, March 25, 2004). Repatriation of the items in the original Notice of Inventory Completion has not occurred. The amendment is being made to reflect the addition of newly identified associated funerary objects for two of the collections listed in the original notice.

For CA-RIV-2199, the original notice only listed human remains, but tribal representatives have reviewed the remaining objects in the collection and have identified 14 lots of associated funerary objects. These objects include one lot of ceramics, one lot of unfired clay, one lot of glass, one lot of lithics, one lot of metal, one lot of plastic, one lot of rubber, one lot of shell beads, one lot of faunal bones, one lot of fabric, one lot of floral materials, one lot of geological materials, one lot of unmodified shell, and one lot fire-altered rock.

For CA-RIV-4169 the original notice only listed human remains, but tribal representatives have reviewed the remaining objects in the collections and have identified six lots of associated funerary objects. These objects include two lots of ceramics, one lot of shell beads, one lot of faunal bones, one lot of unmodified shells, and one lot of glass.

Determinations (as Amended)

Pursuant to NAGPRA and its implementing regulations, and after consultation with the appropriate Indian Tribes and Native Hawaiian organizations, the University of California, Riverside has determined that:

• The human remains described in this amended notice represent the physical remains of three individuals of Native American ancestry.

• The 20 lots of objects described in this amended notice are reasonably believed to have been placed with or near individual human remains at the time of death or later as part of the death rite or ceremony.

• There is a relationship of shared group identity that can be reasonably traced between the human remains and associated funerary objects described in this notice and the Agua Caliente Band of Cahuilla Indians of the Agua Caliente Indian Reservation, California; Augustine Band of Cahuilla Indians, California; Cabazon Band of Cahuilla Indians (Previously listed as Cabazon Band of Mission Indians, California); Cahuilla Band of Indians; Los Coyotes Band of Cahuilla and Cupeno Indians, California; Morongo Band of Mission Indians, California; Ramona Band of Cahuilla, California; Santa Rosa Band of Cahuilla Indians, California; and the Torres Martinez Desert Cahuilla Indians, California.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after February 15, 2024. If competing requests for repatriation are received, the University of California, Riverside must determine the most appropriate requestor prior to repatriation. Requests for joint repatriation of the human remains and associated funerary objects are considered a single request and not competing requests. The University of California, Riverside is responsible for sending a copy of this notice to the Indian Tribes and Native Hawaiian organizations identified in this notice.

Authority: Native American Graves Protection and Repatriation Act, 25 U.S.C. 3003, and the implementing regulations, 43 CFR 10.9, 10.10, 10.13, and 10.14.

Dated: January 9, 2024.
Melanie O'Brien,
Manager, National NAGPRA Program.

[FR Doc. 2024-00607 Filed 1-12-24; 8:45 am]

BILLING CODE 4312-52-P